SECURITIES AND EXCHANGE COMMISSION

[Release No. IC-27308]

Notice of Applications for Deregistration Under Section 8(f) of the Investment Company Act of 1940

April 28, 2006.

The following is a notice of applications for deregistration under section 8(f) of the Investment Company Act of 1940 for the month of April, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on May 23, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

J.P. Morgan Funds [File No. 811-7340]; J.P. Morgan Institutional Funds [File No. 811-7342]; J.P. Morgan Mutual Fund Select Trust [File No. 811-7841]; J.P. Morgan Mutual Fund Select Group [File No. 811-7843]; Growth & Income Portfolio [File No. 811-8084]; J.P. Morgan Mutual Fund Trust [File No. 811-8358]

Summary: Each applicant seeks an order declaring that it has ceased to be an investment company. On February 18, 2005, each applicant transferred its assets to JP Morgan Trust I, based on net asset value. Expenses of $850,000, $810,000, $850,000, $850,000, $850,000 and $2,550,000, respectively, incurred in connection with the reorganizations were paid by J.P. Morgan Investment Management Inc., applicants' investment adviser, or its affiliates.

Filing Date: The applications were filed on April 3, 2006.

Applicants' Address: 522 Fifth Ave., New York, NY 10036.

21st Century Trust [File No. 811-6451]

Summary: Applicant, a unit investment trust, seeks an order declaring that it has ceased to be an investment company. On February 28, 2005, applicant made a final liquidating distribution to its shareholders, based on net asset value. No expenses were incurred in connection with the liquidation.

Filing Date: The application was filed on March 28, 2006.

Applicant's Address: c/o Van Kampen Funds Inc., Administrator, Unit Investment Trust Division, 1221 Avenue of the Americas, New York, NY 10020.

GAM Avalon Galahad, LLC [File No. 811-10247]

Summary: Applicant, a closed-end investment company, seeks an order declaring that it has ceased to be an investment company. On February 17, 2006, applicant made a liquidating distribution to its shareholders, based on net asset value. Expenses of $8,002 incurred in connection with the liquidation were paid by GAM USA Inc., applicant's investment adviser. Applicant has retained $116,916 in cash reserves to cover outstanding accrued expenses.

Filing Date: The application was filed on March 20, 2006.

Applicant's Address: 115 East 57th St., New York, NY 10022.

AHA Investment Funds, Inc. [File No. 811-5534]

Summary: Applicant seeks an order declaring that it has ceased to be an investment company. On September 30, 2005, applicant transferred its assets to CNI Charter Funds, based on net asset value. Expenses of $355,606 incurred in connection with the reorganization were paid by applicant.

Filing Date: The application was filed on March 17, 2006.

Applicant's Address: 190 South La Salle St., Suite 2800, Chicago, IL 60603.

Central Equity Trust [File No. 811-5965]

Summary: Applicant, a unit investment trust, seeks an order declaring that it has ceased to be an investment company. On December 1, 2003, applicant made a final liquidating distribution to its shareholders, based on net asset value. No expenses were incurred in connection with the liquidation.

Filing Date: The application was filed on March 28, 2006.

Applicant's Address: c/o Van Kampen Funds Inc., Administrator, Unit Investment Trust Division, 1221 Avenue of the Americas, New York, NY 10020.

Van Kampen Advantage Municipal Income Trust [File No. 811-6736]

Summary: Applicant, a closed-end investment company, seeks an order declaring that it has ceased to be an investment company. On January 27, 2006, applicant transferred its assets to Van Kampen Municipal Opportunity Trust, based on net asset value. The preferred shares of applicant were converted into preferred shares of the acquiring fund on a one-for-one basis. Expenses of $444,000 incurred in connection with the reorganization were paid by applicant and the acquiring fund.

Filing Date: The application was filed on March 20, 2006.

Applicant's Address: 1221 Avenue of the Americas, New York, NY 10020.

Van Kampen Value Municipal Income Trust [File No. 811-7400]; Van Kampen Municipal Opportunity Trust II [File No. 811-7676]

Summary: Each applicant, a closed-end investment company, seeks an order declaring that it has ceased to be an investment company. On January 27, 2006, each applicant transferred its assets to Van Kampen Advantage Municipal Income Trust II, based on net asset value. Each applicant's preferred shares were converted into preferred shares of the acquiring fund on a one-for-one basis. Total expenses of $502,000 incurred in connection with the reorganizations were paid by applicants and the acquiring fund.

Filing Date: The applications were filed on March 20, 2006.

Applicants' Address: 1221 Avenue of the Americas, New York, NY 10020.

Van Kampen High Income Trust [File No. 811-5707]

Summary: Applicant, a closed-end investment company, seeks an order declaring that it has ceased to be an investment company. On July 29, 2005, applicant transferred its assets to Van Kampen High Income Trust II, based on net asset value. Applicant's preferred shares had a liquidation preference of $100,000 per share and the preferred shares of the acquiring fund have a liquidation preference of $25,000, so the preferred shares of applicant were converted into preferred shares of the acquiring fund on a one-for-four basis. Expenses of $381,000 incurred in connection with the reorganization were paid by applicant and the acquiring fund.

Filing Date: The application was filed on March 20, 2006.

Applicant's Address: 1221 Avenue of the Americas, New York, NY 10020.

Van Kampen Pennsylvania Quality Municipal Trust [File No. 811-6370]; Van Kampen Trust for Investment Grade Pennsylvania Municipals [File No. 811-6539]; Van Kampen Advantage Pennsylvania Municipal Income Trust [File No. 811-6732]

Summary: Each applicant, a closed-end investment company, seeks an order declaring that it has ceased to be an investment company. On December 2, 2005, each applicant transferred its assets to Van Kampen Pennsylvania Value Municipal Income Trust, based on net asset value. Each applicant's preferred shares were converted into preferred shares of the acquiring fund on a one-for-one basis. Total expenses of $587,000 incurred in connection with the reorganizations were paid by applicants and the acquiring fund.

Filing Date: The applications were filed on March 20, 2006.

Applicants' Address: 1221 Avenue of the Americas, New York, NY 10020.

Van Kampen Investment Grade Municipal Trust [File No. 811-5786]

Summary: Applicant, a closed-end investment company, seeks an order declaring that it has ceased to be an investment company. On August 26, 2005, applicant transferred its assets to Van Kampen Municipal Trust, based on net asset value. Applicant's preferred shares had a liquidation preference of $100,000 per share and the preferred shares of the acquiring fund have a liquidation preference of $25,000 per share, so the preferred shares of applicant were converted into preferred shares of the acquiring fund on a one-for-four basis. Expenses of $248,000 incurred in connection with the reorganization were paid by applicant.

Filing Date: The application was filed on March 20, 2006.

Applicant's Address: 1221 Avenue of the Americas, New York, NY 10020.

Van Kampen Ohio Value Municipal Income Trust [File No. 811-6738]

Summary: Applicant, a closed-end investment company, seeks an order declaring that it has ceased to be an investment company. On October 7, 2005, applicant transferred its assets to Van Kampen Ohio Quality Municipal Trust, based on net asset value. The preferred shares of applicant were converted into preferred shares of the acquiring fund on a one-for-one basis. Expenses of $256,000 incurred in connection with the reorganization were paid by applicant and the acquiring fund.

Filing Date: The application was filed on March 20, 2006.

Applicant's Address: 1221 Avenue of the Americas, New York, NY 10020.

Van Kampen Strategic Sector Municipal Trust [File No. 811-7356]

Summary: Applicant, a closed-end investment company, seeks an order declaring that it has ceased to be an investment company. On October 7, 2005, applicant transferred its assets to Van Kampen Select Sector Municipal Trust, based on net asset value. The preferred shares of applicant were converted into preferred shares of the acquiring fund on a one-for-one basis. Expenses of $290,000 incurred in connection with the reorganization were paid by applicant and the acquiring fund.

Filing Date: The application was filed on March 20, 2006.

Applicant's Address: 1221 Avenue of the Americas, New York, NY 10020.

Van Kampen Municipal Income Trust [File No. 811-5230]

Summary: Applicant, a closed-end investment company, seeks an order declaring that it has ceased to be an investment company. On October 7, 2005, applicant transferred its assets to Van Kampen Trust for Investment Grade Municipals, based on net asset value. Applicant's preferred shares had a liquidation preference of $500,000 per share and the preferred shares of the acquiring fund have a litigation preference of $25,000 per share, so the preferred shares of applicant were converted into preferred shares of the acquiring fund on a one-for-twenty basis. Expenses of $491,000 incurred in connection with the reorganization were paid by applicant, the acquiring fund and Van Kampen Asset Management, applicant's investment adviser.

Filing Date: The application was filed on March 20, 2006.

Applicant's Address: 1221 Avenue of the Americas, New York, NY 10020.

Van Kampen Florida Quality Municipal Trust [File No. 811-6369]

Summary: Applicant, a closed-end investment company, seeks an order declaring that it has ceased to be an investment company. On October 28, 2005, applicant transferred its assets to Van Kampen Trust for Investment Grade Florida Municipals, based on net asset value. The preferred shares of applicant were converted into preferred shares of the acquiring fund on a one-for-one basis. Expenses of $291,000 incurred in connection with the reorganization were paid by applicant and the acquiring fund.

Filing Date: The application was filed on March 20, 2005.

Applicant's Address: 1221 Avenue of the Americas, New York, NY 10020.

Van Kampen New York Quality Municipal Trust [File No. 811-6360]; Van Kampen New York Value Municipal Income Trust [File No. 811-7402]

Summary: Each applicant, a closed-end investment company, seeks an order declaring that it has ceased to be an investment company. On October 28, 2005, each applicant transferred its assets to Van Kampen Trust for Investment Grade New York Municipals, based on net asset value. Each applicant's preferred shares were converted into preferred shares of the acquiring fund on a one-for-one basis. Total expenses of $405,000 incurred in connection with the reorganizations were paid by applicants and the acquiring fund.

Filing Date: The applications were filed on March 20, 2006.

Applicants' Address: 1221 Avenue of the Americas, New York, NY 10020.

AllianceBernstein All-Asia Investment Fund, Inc. [File No. 811-8776]; AllianceBernstein New Europe Fund, Inc. [File No. 811-6028]

Summary: Each applicant seeks an order declaring that it has ceased to be an investment company. On June 24, 2005 and July 8, 2005, respectively, each applicant transferred its assets to Alliance Bernstein International Research Growth Fund, Inc., based on net asset value. Expenses of $178,459 and $289,651, respectively, incurred in connection with the reorganizations were paid by Alliance Capital Management L.P., applicants' investment adviser.

Filing Dates: The applications were filed on February 3, 2006 and amended on April 7, 2006.

Applicants' Address: 1345 Avenue of the Americas, New York, NY 10105.

Principal Growth Fund, Inc. [File No. 811-1873]; Principal Capital Value Fund, Inc. [File No. 811-1874]; Principal International Fund, Inc. [File No. 811-3183]; Principal Cash Management Fund, Inc. [File No. 811-3585]; Principal Government Securities Income Fund, Inc. [File No. 811-4226]; Principal Tax-Exempt Bond Fund, Inc. [File No. 811-4449]; Principal Balanced Fund, Inc. [File No. 811-5072]; Principal MidCap Fund, Inc. [File No. 811-5171]; Principal Bond Fund, Inc. [File No. 811-5172]; Principal Partners Blue Chip Fund, Inc. [File No. 811-6263]; Principal Equity Income Fund, Inc. [File No. 811-7266]; Principal Limited Term Bond Fund, Inc. [File No. 811-7453]; Principal International Emerging Markets Fund, Inc. [File No. 811-8249]; Principal International SmallCap Fund, Inc. [File No. 811-8251]; Principal Real Estate Securities Fund, Inc. [File No. 811-8379]; Principal SmallCap Fund, Inc. [File No. 811-8381]; Principal LargeCap Stock Index Fund, Inc. [File No. 811-9755]; Principal Partners MidCap Growth Fund, Inc. [File No. 811-9759]; Principal Partners Equity Growth Fund, Inc. [File No. 811-9567]; Principal Partners LargeCap Blend Fund, Inc. [File No. 811-10187]; Principal Partners LargeCap Value Fund, Inc. [File No. 811-10189]; Principal Partners SmallCap Growth Fund, Inc. [File No. 811-10193]

Summary: Each applicant seeks an order declaring that it has ceased to be an investment company. On June 30, 2005, each applicant transferred its assets to a corresponding series of Principal Investors Fund, Inc., based on net asset value. Expenses of approximately $288,209, $185,322, $523,819, $139,339, $135,354, $18,805, $241,947, $339,434, $115,254, $159,813, $85,440, $37,030, $62,963, $68,211, $62,139, $118,287, $56,886, $41,376, $80,570, $52,074, $52,442 and $25,530, respectively, incurred in connection with the reorganizations were paid by the acquired funds and Principal Management Corporation, investment adviser to each applicant.

Filing Dates: The applications were filed on January 3, 2006, and amended on March 28, 2006.

Applicants' Address: 711 High St., Des Moines, IA 50392-2080.

Integrated Arros Fund I [File No. 811-4392]; Integrated Arros Fund II [File No. 811-4393]

Summary: Each applicant, a closed-end investment company, seeks an order declaring that it has ceased to be an investment company. On October 7, 2005, each applicant made a liquidating distribution to its shareholders, based on net asset value. Expenses of $13,000 incurred in connection with each liquidation will be paid by each applicant out of cash assets retained for that purpose.

Filing Date: The applications were filed on November 18, 2005.

Applicants' Address: IR Pass-Through Corp., c/o Winthrop Management LLC, 7 Bullfinch Pl., Suite 500, PO Box 9507, Boston, MA 02114.

BidFund 2 Percent [File No. 811-21204]

Summary: Applicant, a closed-end investment company, seeks an order declaring that it has ceased to be an investment company. Applicant has never made a public offering of its securities and does not propose to make a public offering or engage in business of any kind.

Filing Date: The application was filed on April 4, 2006.

Applicant's Address: c/o Financial Foundry, LLC, 301 North Harrison St., Suite 185, Princeton, NJ 08540.

NorCap Funds, Inc. [File No. 811-21345]

Summary: Applicant seeks an order declaring that it has ceased to be an investment company. On April 3, 2006, applicant made a liquidating distribution to its shareholders, based on net asset value. Applicant's investment adviser, Northern Capital Management, LLC, paid all expenses incurred in connection with the liquidation.

Filing Date: The application was filed on April 3, 2006.

Applicant's Address: 8010 Excelsior Dr., Suite 300, Madison, WI 53717.

Access Variable Insurance Trust [File No. 811-21312]

Summary: Applicant seeks an order declaring that it has ceased to be an investment company. On July 29, 2005, applicant made a liquidating distribution to its shareholders based on net asset value. Applicant incurred no expenses in connection with the liquidation.

Filing Dates: The application was filed on December 15, 2005 and amended and restated on March 1, 2006.

Applicant's Address: 28050 U.S. Hwy. 19 N, Suite 301, Clearwater, FL 33761.

Mercury V.I. Funds, Inc. [File No. 811-9159]

Summary: Mercury V.I. Funds, Inc. (“Applicant”) seeks an order declaring that it has ceased to be an investment company. The Applicant was merged into the Merrill Lynch Large Cap Growth V.I. Fund, a series of Merrill Lynch Variable Series Funds, Inc., pursuant to an agreement and plan of reorganization filed with the Commission on October 15, 2003. The Applicant incurred expenses of $68,674.96 (approximately) in connection with the merger.

Filing Dates: The application was filed on November 30, 2005, and amended on January 25, 2006.

Applicant's Address: Mercury V.I. Funds, Inc. c/o Merrill Lynch Investment Managers, 800 Scudders Mill Road, Plainsboro, NJ 08536.

Allmerica Investment Trust [File No. 811-4138]

Summary: Allmerica Investment Trust (“Applicant”) seeks an order declaring that it has ceased to be an investment company. The Applicant was merged into the Goldman Sachs Variable Insurance Trust, pursuant to an agreement and plan of reorganization filed with the Commission on October 31, 2005. Expenses in connection with the merger were shared equally between the merged fund and the surviving fund.

Filing Dates: The application was filed on February 14, 2006, and amended on April 7, 2006.

Applicant's Address: Allmerica Investment Trust, 440 Lincoln Street, Worcester, MA 01653.

Mercury Variable Trust [File No. 811-8163]

Summary: Mercury Variable Trust. (“Applicant”) seeks an order declaring that it has ceased to be an investment company. The Applicant was merged into the Merrill Lynch International Value V.I. Fund, a series of Merrill Lynch Variable Series Funds, Inc., pursuant to an agreement and plan of reorganization filed with the Commission on October 15, 2003. The Applicant incurred expenses of $195,735.59 (approximately) in connection with the merger.

Filing Dates: The application was filed on November 30, 2005, and amended on January 25, 2006.

Applicant's Address: Mercury Variable Trust c/o Merrill Lynch Investment Managers, 800 Scudders Mill Road, Plainsboro, NJ 08536.

For the Commission, by the Division of Investment Management, pursuant to delegated authority.
Nancy M. Morris,
Secretary.

[FR Doc. E6-6912 Filed 5-5-06; 8:45 am]

BILLING CODE 8010-01-P